FEDERAL DEPOSIT INSURANCE CORPORATION

Agency Information Collection Activities: Submission for OMB Review; Comment Request

Correction

In notice document 00-13428 beginning on page 34468 in the issue of Tuesday, May 30, 2000, make the following correction:

On page 34469, in the third column, in the Comments: paragraph, “[insert date 30 days after date of publication in the Federal Register]” should read “June 29, 2000”.

[FR Doc. C0-13428 Filed 6-8-00; 8:45 am]

BILLING CODE 1505-01-D